DEPARTMENT OF COMMERCE

Census Bureau

Survey of Pollution Abatement Costs and Expenditures

ACTION: Proposed collection; comment request.

SUMMARY: The Department of Commerce, as part of its continuing effort to reduce paperwork burden, invites the general public and other Federal agencies to take this opportunity to comment on the proposed and/or continuing information collections, as required by the Paperwork Reduction Act of 1995, Public Law 104-13 (44 U.S.C. 3506(c)(2)(A)).

DATES: Written comments must be submitted on or before February 7, 2005.

ADDRESSES: Direct all written comments to Diana Hynek, Departmental Paperwork Clearance Officer, Department of Commerce, Room 6625, 14th and Constitution Avenue, NW., Washington, DC 20233 (or via the Internet at dhynek@doc.gov).

FOR FURTHER INFORMATION CONTACT: Requests for additional information or copies of the information collection instrument(s) and instructions should be directed to Julius Smith Jr., Census Bureau, Room 2135, Building 4, Washington, DC 20233-6900, (301) 763-4683 (or via the Internet at julius.smith.jr@census.gov).

SUPPLEMENTARY INFORMATION:

I. Abstract

The Census Bureau, with support from the Environmental Protection Agency, plans to reinstate the Survey of Pollution Abatement Costs and Expenditures (PACE), MA-200 for 2005. In addition to the survey, the Census Bureau also plans to conduct a screener and a pilot.

The screener will be administered in an attempt to identify plants, for both the pilot and the survey, that have pollution abatement activities. Once these plants have been identified, the pilot will then be administered to a small sample. These selected plants will be asked to complete and comment on the proposed 2005 survey form. The information gained from the screener and pilot will be used in finalizing the survey instrument and sample design.

The screener will contain a small number of questions (approximately 3-5), in the form of check boxes, to determine if pollution abatement activities are conducted and if so, a range of those costs. The pilot and the survey will collect data on capital expenditures for pollution abatement activities and operating costs. These data will be collected by categories (treatment, prevention, disposal and recycling) and media (air, water and solid waste). It will also collect some data on depreciation and cost offsets. The pilot will also include some qualitative questions to validate the estimates collected.

II. Method of Collection

The Census Bureau will use mail out/mail back survey forms for the screener, pilot and survey. Companies will be asked to respond to each within 30 days of the initial mailing.

III. Data

OMB Number: 0607-0176.

Form Number: MA-200S, MA-200P and MA-200.

Type of Review: Regular.

Affected Public: Manufacturing, mining and electric utility establishments.

Estimated Number of Respondents: The screener—40,000 facilities; the pilot—2,000 facilities; and the survey—20,000 facilities.

Estimated Time Per Response: The screener—.25 hours; the pilot—5 hours; and the survey—5 hours.

Estimated Total Burden: 120,000 hours. The screener—10,000; the pilot—10,000; and the survey—100,000.

Estimated Total Cost: $ 1,500,000.

Respondents' Obligation: Mandatory.

Legal Authority: Title 13 United States Code, Section 182,224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the information collection on respondents, including through the use of automated collection techniques or other forms of information technology. Comments submitted in response to this notice will be summarized and included in the request for OMB approval of this information collection; they also will become a matter of public record.

Dated: December 1, 2004.
Madeleine Clayton,
Management Analyst, Office of the Chief Information Officer.

[FR Doc. 04-26779 Filed 12-6-04; 8:45 am]

BILLING CODE 3510-07-P